DEPARTMENT OF COMMERCE

National Oceanic and Atmospheric Administration

[I.D. 011807C]

Fisheries of the Northeast Region; Fisheries of the Southeast Region; Fisheries off West Coast States; and Fisheries in the Western Pacific

AGENCY: National Marine Fisheries Service (NMFS), National Oceanic and Atmospheric Administration (NOAA), Commerce.

ACTION: Notification of determinations of overfishing, and a need to revise a rebuilding plan.

SUMMARY: This action serves as a notice that NMFS, on behalf of the Secretary of Commerce (Secretary), has determined that overfishing is occurring in fisheries for northeast winter skate; Gulf of Mexico (GOM) gag and gray triggerfish; and Eastern Pacific Ocean yellowfin tuna. NMFS has also determined that the rebuilding plan for GOM greater amberjack needs to be revised. NMFS notified the respective regional fishery management councils (Councils) responsible for these fisheries of its determinations by letter. The Councils are required to take action within one year following NMFS notification that overfishing is occurring or a stock is approaching overfishing, a stock is overfished or approaching an overfished condition, or existing remedial action taken to end overfishing or rebuild an overfished stock has not resulted in adequate progress.

FOR FURTHER INFORMATION CONTACT: Mark Millikin, telephone: (301) 713-2341.

SUPPLEMENTARY INFORMATION: Pursuant to sections 304(e)(2) and (e)(7) of the Magnuson-Stevens Fishery Conservation and Management Act (Magnuson-Stevens Act), 16 U.S.C. 1854(e)(2) and (e)(7), and implementing regulations at 50 CFR 600.310(e)(2), NMFS sends written notification to fishery management councils when overfishing is occurring or a stock is approaching overfishing; a stock is overfished or approaching an overfished condition, or existing action taken to end previously identified overfishing or rebuilding a previously identified overfished stock or stock complex has not resulted in adequate progress. On October 11, 2006, the NMFS Southeast Regional Administrator sent a letter, notifying the Gulf of Mexico Fishery Management Council (GOM Council) that overfishing is occurring in GOM gag and gray triggerfish. Pursuant to section 304(e)(7) of the Magnuson-Stevens Act , NMFS also notified the GOM Council in the same letter that the rebuilding plan for GOM greater amberjack needs to be revised so that it can still rebuild to the stock's target biomass (Bmsy) by the end of the time frame for that stock's rebuilding plan.

On October 17, 2006, the NMFS Northeast Regional Administrator sent a letter notifying the New England Fishery Management Council that overfishing is occurring in the winter skate fishery.

On October 25, 2006, the NMFS Southwest Regional Administrator sent a letter notifying the Pacific Fishery Management Council that overfishing is occurring on the Eastern Pacific Ocean stock of yellowfin tuna.

Copies of the notification letters sent to the fishery management councils for the aforementioned determinations are available at http://www.nmfs.noaa.gov/sfa/statusoffisheries/SOSmain.htm.

Within one year of a notification under Magnuson-Stevens Act sections 304(e)(2) or (e)(7), the respective Council must take remedial action in response to the notification, to end overfishing if overfishing is occurring; rebuild an overfished stock or stock complex to the abundance that can produce maximum sustainable yield within an appropriate time frame; prevent overfishing from occurring if a stock is approaching overfishing; and/or prevent a stock from becoming overfished if it is approaching an overfished condition (see implementing regulations at 50 CFR 600.310(e)(3)). Such action must be submitted to NMFS within one year of notification and may be in the form of a new fishery management plan (FMP), an FMP amendment, or proposed regulations.

Dated: January 29, 2007.
James P. Burgess,
Acting Director, Office of Sustainable Fisheries, National Marine Fisheries Service.

[FR Doc. E7-1659 Filed 1-31-07; 8:45 am]

BILLING CODE 3510-22-S